DEPARTMENT OF TRANSPORTATION

Federal Aviation Administration

14 CFR Part 39

[Docket No. FAA-2009-0555; Directorate Identifier 2009-NE-18-AD]

RIN 2120-AA64

Airworthiness Directives; Honeywell International Inc. TPE331-10 and TPE331-11 Series Turboprop Engines

AGENCY: Federal Aviation Administration (FAA), DOT.

ACTION: Notice of proposed rulemaking (NPRM).

SUMMARY: The FAA proposes to supersede an existing airworthiness directive (AD) for Honeywell International Inc. TPE331-10 and TPE331-11 series turboprop engines. That AD currently requires removing certain first stage turbine disks from service. This proposed AD would require the same actions, and would also require performing fluorescent penetrant inspections (FPI) and eddy current inspections (ECI) on certain first stage turbine disks that have a serial number (S/N) listed in this proposed AD. This proposed AD results from our determination that we need to expand the affected population to include other disks from the same heat lot as the failed first stage turbine disk, and that certain inspections are also required. We are proposing this AD to prevent uncontained failure of the first stage turbine disk and damage to the airplane.

DATES: We must receive any comments on this proposed AD by August 23, 2010.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

FOR FURTHER INFORMATION CONTACT: Joseph Costa, Aerospace Engineer, Los Angeles Aircraft Certification Office, FAA, Transport Airplane Directorate, 3960 Paramount Blvd., Lakewood, CA 90712-4137; e-mail: joseph.costa@faa.gov; telephone (562) 627-5246; fax (562) 627-5210.

SUPPLEMENTARY INFORMATION:

Comments Invited

We invite you to send any written relevant data, views, or arguments regarding this proposal. Send your comments to an address listed under ADDRESSES. Include “Docket No. FAA-2009-0555; Directorate Identifier 2009-NE-18-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

The FAA proposes to amend 14 CFR part 39 by superseding AD 2009-17-05, Amendment 39-15996 (74 FR 41327, August 17, 2009). That AD requires removal from service of first stage turbine disks, P/Ns 3101520-1 and 3107079-1, serial numbers 2-03501-2299, 2-03501-2300, 2-03501-2301, 2-03501-2302, and 2-03501-2304, within 25 flight hours or 25 cycles-in-service (CIS) after the effective date of this AD, whichever occurs first. That AD was the result of a report of an uncontained failure of a first stage turbine disk that had a metallurgical defect. That condition, if not corrected, could result in uncontained failure of the first stage turbine disk and damage to the airplane.

Actions Since AD 2009-17-05 was Issued

Since that AD was issued, we determined that up to 360 other turbine disks have been produced from the same heat lot as the failed turbine disk and might have similar inclusions. These inclusions can result in cracks that could result in an uncontained separation of a turbine disks.

Relevant Service Information

We have reviewed and approved the technical contents of Honeywell International Inc. Alert Service Bulletin TPE331-72-A2156, dated December 2, 2008, that describes S/Ns of the affected turbine disks and procedures for initial and repetitive FPI and ECI of the first stage turbine disk.

FAA's Determination and Requirements of the Proposed AD

We have evaluated all pertinent information and identified an unsafe condition that is likely to exist or develop on other products of this same type design. For that reason, we are proposing this AD, which would require:

• For turbine disks that have a S/N listed in Table 1 of this proposed AD with 4,100 or fewer cycles-since-new (CSN) on the effective date of this proposed AD, performing an initial FPI and ECI within 4,500 CSN or at the next access, whichever occurs first.

• For turbine disks that have a S/N listed in Table 1 of this proposed AD with more than 4,100 CSN on the effective date of this proposed AD, performing an initial FPI and ECI within 400 CIS after the effective date of this proposed AD or at the next access, whichever occurs first.

• Thereafter, for turbine disks that have a S/N listed in Table 1 of this proposed AD, perform a repetitive FPI and ECI at each scheduled hot section inspection, but not to exceed 3,600 hours-since-last inspection.

The proposed AD would require that you do these actions using the service information described previously.

Costs of Compliance

We estimate that this proposed AD would affect 90 engines installed on airplanes of U.S. registry. We also estimate that it would take about 20 work-hours per engine to perform the proposed actions, and that the average labor rate is $85 per work-hour. Required parts would cost about $19,000 per engine. We estimate that one disk would fail the initial inspection and that repetitive inspections would be performed on 89 engines. We estimate that one engine would fail the repetitive inspections and that further repetitive inspections would be performed on 88 engines. We estimate that an additional one disk would fail those repetitive inspections before retirement. Based on these figures, we estimate the total cost of the proposed AD to U.S. operators to be $511,155.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Incorporation by reference, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15996 (74 FR 41327, August 17, 2009) and by adding a new airworthiness directive to read as follows:

Honeywell International Inc. (formerly AlliedSignal Inc., Garrett Engine Division; Garrett Turbine Engine Company; and AiResearch Manufacturing Company of Arizona): Docket No. FAA-2009-0555; Directorate Identifier 2009-NE-18-AD.

Comments Due Date

(a) The Federal Aviation Administration (FAA) must receive comments on this airworthiness directive (AD) action by August 23, 2010.

Affected ADs

(b) This AD supersedes AD 2009-17-05, Amendment 39-15996.

Applicability

(c) This AD applies to Honeywell International Inc. TPE331-10 and TPE331-11 series turboprop engines with a first stage turbine disk, part number (P/N) 3101520-1 or 3107079-1, with a serial number (S/N) listed in Table 1 of this AD, installed. These engines are installed on, but not limited to, British Aerospace Jetstream 3201 series, Cessna Aircraft Company Model 441 Conquest, Construcciones Aeronauticas, S.A. (CASA) C-212 series, Dornier Luftfahrt Dornier 228 series, Hawker Beechcraft (formerly Raytheon, formerly Beech) B100, C90 and E90, M7 Aerospace (formerly Fairchild) SA226 and SA227 series (Swearingen Merlin and Metro series), Mitsubishi MU-2B series (MU-2 series), PZL M18 series, and Twin Commander 680 and 690 series (Jetprop Commander) airplanes.

Table 1—First Stage Turbine Disk S/Ns
Disk P/N | Disk S/N
3101520-1 or 3107079-1 | 1-03501-4275 thru 1-03501-4306 inclusive.
| 1-03501-4308 thru 1-03501-4339 inclusive.
| 1-03501-4341 thru 1-03501-4438 inclusive.
| 1-03501-4440 thru 1-03501-4471 inclusive.
| 1-03501-4473 thru 1-03501-4504 inclusive.
| 1-03501-4506 thru 1-03501-4537 inclusive.
| 1-03501-4539 thru 1-03501-4570 inclusive.
| 1-03501-4572 thru 1-03501-4599 inclusive.
| 2-03501-2260 thru 2-03501-2272 inclusive.
| 2-03501-2274 thru 2-03501-2298 inclusive.

Unsafe Condition

(d) This AD results from our determination that we need to expand the affected population to include other disks from the same heat lot as the failed first stage turbine disk. We are issuing this AD to prevent uncontained failure of the first stage turbine disk and damage to the airplane.

Compliance

(e) You are responsible for having the actions required by this AD performed within the compliance times specified unless the actions have already been done.

Removal of First Stage Turbine Disks From Service

(f) Within 25 flight hours or 25 cycles-in-service (CIS) after September 1, 2009, remove from service first stage turbine disks, P/N 3101520-1 and P/N 3107079-1, serial numbers 2-03501-2299, 2-03501-2300, 2-03501-2301, 2-03501-2302, and 2-03501-2304.

Initial Inspection

(g) For first stage turbine disks, P/N 3101520-1 or 3107079-1, that have a S/N listed in Table 1 of this AD, perform a fluorescent penetrant inspection (FPI) on the disk as follows:

(1) For turbine disks with 4,100 or fewer cycles-since-new (CSN) on the effective date of this proposed AD, perform an initial FPI by using paragraph 3.B.(2) through 3.B.(5) of Honeywell International Inc. Alert Service Bulletin (ASB) TPE331-72-A2156, dated December 2, 2008, within 4,500 CSN or at the next access, whichever occurs first.

(2) For turbine disks with more than 4,100 CSN on the effective date of this proposed AD, perform an initial FPI by using paragraph 3.B.(2) through 3.B.(5) of Honeywell International Inc. ASB TPE331-72-A2156, dated December 2, 2008, within 400 CIS after the effective date of this proposed AD or at the next access, whichever occurs first.

(3) If you find a crack in the disk, remove the disk from service.

(4) If the disk passes the FPI inspection, perform a special eddy current inspection (ECI) by using paragraph 3.B.(6) of Honeywell International Inc. ASB TPE331-72-A2156, dated December 2, 2008.

Repetitive Inspection

(h) Thereafter, perform repetitive FPI and ECI at each scheduled hot section inspection, but not to exceed 3,600 hours-since-last inspection. Use paragraph 3.B.(2) through 3.B.(6) of Honeywell International Inc. ASB TPE331-72-A2156, dated December 2, 2008.

(i) If you find a crack in the disk, remove the disk from service.

Installation Prohibition

(j) After September 1, 2009, do not approve for return to service, any engine that has a first stage turbine disk, P/N 3101520-1 and P/N 3107079-1, with S/N 2-03501-2299, 2-03501-2300, 2-03501-2301, 2-03501-2302, and 2-03501-2304.

(k) After the effective date of this AD, do not approve for return to service, any engine that has a first stage turbine disk, P/N 3101520-1 and P/N 3107079-1, and a S/N listed in Table 1 of this AD, unless that disk has passed an FPI as specified in paragraph 3.B.(3) through 3.B.(6) of Honeywell International Inc. ASB TPE331-72-A2156, dated December 2, 2008.

Alternative Methods of Compliance

(l) The Manager, Los Angles Aircraft Certification Office, FAA, has the authority to approve alternative methods of compliance for this AD if requested using the procedures found in 14 CFR 39.19.

Definition

(m) For the purpose of this AD, “next access to the first stage turbine disk” is defined as the removal of the second stage turbine nozzle from the turbine stator housing.

Related Information

(n) Contact Joseph Costa, Aerospace Engineer, Los Angeles Aircraft Certification Office, FAA, Transport Airplane Directorate, 3960 Paramount Blvd., Lakewood, CA 90712-4137; e-mail: joseph.costa@faa.gov; telephone (562) 627-5246; fax (562) 627-5210, for more information about this AD.

(o) Honeywell International Inc. ASB TPE331-72-A2156, dated December 2, 2008, pertains to the subject of this AD. Contact Honeywell International Inc., 111 S. 34th Street, Phoenix, AZ 85034-2802; Web site: http://portal.honeywell.com, for a copy of this service information.

Issued in Burlington, Massachusetts, on June 16, 2010.
Peter A. White,
Assistant Manager, Engine and Propeller Directorate, Aircraft Certification Service.

[FR Doc. 2010-15068 Filed 6-21-10; 8:45 am]

BILLING CODE 4910-13-P